DEPARTMENT OF TRANSPORTATION

Federal Aviation Administration

Proposed Advisory Circular (AC) 65-26C, Charles Taylor “Master Mechanic” Award

AGENCY: Federal Aviation Administration (FAA), DOT.

ACTION: Notice of availability of proposed AC, and request for comments.

SUMMARY: This notice announces the availability of and requests comments on a proposed AC that provides guidance on eligibility, application, and selection for the Charles Taylor “Master Mechanic” Award.

DATES: Submit comments on or before September 4, 2004.

ADDRESSES: Send all comments on the proposed AC to William O'Brien, Aircraft Maintenance Division (AFS-300), Federal Aviation Administration, Independence Ave., SW., Washington, DC 20591; facsimile (202) 267-5115; e-mail william.o'brien@faa.gov.

FOR FURTHER INFORMATION CONTACT: William O'Brien, AFS-300, at the address, facsimile or e-mail listed above, or by telephone at (202) 267-3796.

SUPPLEMENTARY INFORMATION:

Comments Invited

The proposed AC 65-26C is available on the FAA's Regulatory Guidance Library Web site at http://www.airweb.faa.gov/rgl, under the Draft Advisory Circulars link. Interested persons are invited to comment on the proposed AC by submitting written data, views, or arguments as they may desire. Please identify AC 65-26C, Charles Taylor “Master Mechanic” Award, and submit comments, either hardcopy or electronic, to the appropriate address listed above. Comments may be inspected at the above address between 9 a.m. and 4 p.m. weekdays, except Federal holidays.

Issued in Washington, DC, on July 29, 2004.
John M. Allen,
Deputy Director, Flight Standards Service.

[FR Doc. 04-17924 Filed 8-4-04; 8:45 am]

BILLING CODE 4910-13-M